DEPARTMENT OF HEALTH AND HUMAN SERVICES

Centers for Medicare & Medicaid Services

[Document Identifiers: CMS-10261, CMS-10185 and CMS-2540-10]

Agency Information Collection Activities: Proposed Collection; Comment Request

AGENCY: Centers for Medicare & Medicaid Services.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by June 30, 2015:

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ____, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-10261 Part C Medicare Advantage Reporting Requirements and Supporting Regulations

CMS-10185 Medicare Part D Reporting Requirements and Supporting Regulations

CMS-2540 Skilled Nursing Facility and Skilled Nursing Facility Health Care Complex Cost Report Form

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Revision of a currently approved collection; Title of Information Collection: Part C Medicare Advantage Reporting Requirements and Supporting Regulations; Use: There are a number of information users of Part C reporting data, including our central and regional office staff that use this information to monitor health plans and to hold them accountable for their performance, researchers, and other government agencies such as the Government Accounting Office. Health plans can use this information to measure and benchmark their performance. Form Number: CMS-10261 (OMB Control Number 0938-1054); Frequency: Yearly and semi-annually; Affected Public: Private sector (business or other for-profits); Number of Respondents: 561; Total Annual Responses: 3,508; Total Annual Hours: 201,503. (For policy questions regarding this collection contact Terry Lied at 410-786-8973).

2. Type of Information Collection Request: Revision of a currently approved collection; Title of Information Collection: Medicare Part D Reporting Requirements and Supporting Regulations; Use: To ensure quality provision of the Medicare Prescription Drug Benefit to beneficiaries, the collected information will serve as an integral resource for oversight, monitoring, compliance, and auditing activities. Sponsors should retain documentation and data records related to their data submissions. Data will be validated, analyzed, and utilized for trend reporting. For CY 2016 reporting, the following sections will be reported and collected at the Contract-level or Plan-level: (1) Enrollment and disenrollment, (2) retail, home infusion, and long-term care pharmacy access, (3) medication therapy management programs, (4) grievances, (5) coverage determinations and redeterminations, (6) long term care utilization, (7) employer/union sponsored sponsors, and (8) plan oversight of agents. Form Number: CMS-10185 (OMB control number 0938-0992); Frequency: Yearly and semi-annually; Affected Public: Private sector (Business or other for-profits); Number of Respondents: 694; Total Annual Responses: 6,875; Total Annual Hours: 10,865. (For policy questions regarding this collection contact Chanelle Jones at 410-786-8008).

3. Type of Information Collection Request: Revision of a currently approved collection; Title of Information Collection: Skilled Nursing Facility and Skilled Nursing Facility Health Care Complex Cost Report Form; Use: Providers of services participating in the Medicare program are required under sections 1815(a), 1833(e) and 1861(v)(1)(A) of the Social Security Act (42 U.S.C. 1395g) to submit annual information to achieve settlement of costs for health care services rendered to Medicare beneficiaries. In addition, regulations at 42 CFR 413.20 and 413.24 require adequate cost data and cost reports from providers on an annual basis. The Form CMS-2540-10 cost report is needed to determine a provider's reasonable cost incurred in furnishing medical services to Medicare beneficiaries and reimbursement due to or from a provider. The revisions made to the SNF cost report are in accordance with the statutory requirement for hospice payment reform in § 3132 of the Patient Protection and Affordable Care Act (ACA). Form Number: CMS-2540-10 (OMB control number 0938-0463); Frequency: Annually; Affected Public: Private sector (Business or other for-profits and Not-for-profit institutions); Number of Respondents: 14,398; Total Annual Responses: 14,398; Total Annual Hours: 2,908,396. (For policy questions regarding this collection contact Amelia Citerone at 410-786-8008).

Dated: April 28, 2015.
William N. Parham III,
Director, Paperwork Reduction Staff, Office of Strategic Operations and Regulatory Affairs.

[FR Doc. 2015-10208 Filed 4-30-15; 8:45 am]

BILLING CODE 4120-01-P